SMALL BUSINESS ADMINISTRATION

National Small Business Development Center Advisory Board; Public Meeting

Pursuant to the Federal Advisory Committee Act, Appendix 2 of Title 5, United States Code, Public Law 92-463, notice is hereby given that the U.S. Small Business Administration (SBA), National Small Business Development Centers Advisory Board will be hosting a public meeting via conference call to discuss such matters that may be presented by board members, staff of the U.S. Small Business Administration, and interested others. The conference call will be held on Tuesday, January 15, 2008 at 1 p.m., Eastern Standard Time.

The purpose of this meeting is to introduce a new board member and to discuss official SBDC business.

Anyone wishing to make an oral presentation to the Board must contact Alanna Falcone, Program Analyst, U.S. Small Business Administration, Office of Small Business Development Centers, 409 3rd Street, SW., Washington, DC 20416, telephone (202) 619-1612 or fax (202) 481-0134.

Meredith Davis,
Committee Management Officer.

[FR Doc. E8-337 Filed 1-10-08; 8:45 am]

BILLING CODE 8025-01-P